DEPARTMENT OF TRANSPORTATION

Federal Aviation Administration

RTCA Special Committee 197: Rechargeable and Starting Batteries

AGENCY: Federal Aviation Administration (FAA), DOT.

ACTION: Notice of RTCA Special Committee 197 meeting.

SUMMARY: The FAA is issuing this notice to advise the public of a meeting of RTCA Special Committee 197: Rechargeable and Starting Batteries.

DATES: The meeting will be held October 21-23, 2003, starting at 9 a.m.

ADDRESSES: The meeting will be held at the Wyndham Riverfront Hotel, 701 Convention Center Blvd., New Orleans, LA 70130.

FOR FURTHER INFORMATION CONTACT: RTCA Secretariat, 1828 L Street, NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 197 meeting. The agenda will include:

• October 21:

• Opening Session (Welcome and Introductory Remarks, Review of Agenda, Approve Summary Meeting #4)

• Review of Submitted comments

• Review SC-197 MOPS Draft, RTCA Paper No. 174-03/SC-197-011

• October 22:

• Continuation of Review of SC-197 MOPS Draft

• October 23:

• Proposed Schedule for Subsequent Meetings

• Other Business

• Closing Session (Establish Agenda for Next Meeting, Date and Place of Next Meeting)

• Meeting for Advanced Technologies (IEC)

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on September 24, 2003.
Bob Zoldos,
FAA System Engineer, RTCA Advisory Committee.

[FR Doc. 03-26231 Filed 10-16-03; 8:45 am]

BILLING CODE 4910-13-M